DEPARTMENT OF TRANSPORTATION

Federal Motor Carrier Safety Administration

[Docket No. FMCSA-2012-0048]

Agency Information Collection Activities; Extension of a Currently-Approved Information Collection: Annual and Quarterly Report of Class I Motor Carriers of Passengers

AGENCY: Federal Motor Carrier Safety Administration (FMCSA), DOT.

ACTION: Notice and request for comments.

SUMMARY: In accordance with the Paperwork Reduction Act of 1995, FMCSA announces its plan to submit to the Office of Management and Budget (OMB) its request to revise a currently-approved information collection for Class I Motor Carriers of Passengers, (Form MP-1) entitled, “Annual and Quarterly Reports.” This information collection is necessary to ensure that motor carriers comply with financial and operating statistics requirements at 49 CFR part 369. The agency invites public comments on this information request.

DATES: We must receive your comments on or before June 19, 2012.

ADDRESSES: You may submit comments bearing the Federal Docket Management System (FDMS) Docket Number FMCSA-2012-0048 using any of the following methods:

• Federal eRulemaking Portal: http://www.regulations.gov. Follow the online instructions for submitting comments.

• Fax: 1-202-493-2251.

• Mail: Docket Management Facility; U.S. Department of Transportation, 1200 New Jersey Avenue SE., West Building, Ground Floor, Room W12-140, 20590-0001.

• Hand Delivery or Courier: West Building, Ground Floor, Room W12-140, 1200 New Jersey Avenue SE., Washington, DC, between 9 a.m. and 5 p.m. e.t., Monday through Friday, except Federal holidays.

Instructions: All submissions must include the Agency name and docket number. For detailed instructions on submitting comments, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Ms. Vivian Oliver, Office of Research and Information Technology, Department of Transportation, Federal Motor Carrier Safety Administration, West Building 6th Floor, 1200 New Jersey Avenue SE., Washington, DC 20590. Telephone: 202-366-2974; email Vivian.Oliver@dot.gov.

SUPPLEMENTARY INFORMATION: Background: For-hire Class I motor carriers of passengers (including interstate and intrastate) ¹ are required to file Motor Carrier Quarterly and Annual Reports (Form MP-1) that provide financial and operating data (see 49 U.S.C. 14123; and implementing FMCSA regulations at 49 CFR part 369). The agency uses this information to assess the health of the industry and identify industry changes that may affect national transportation policy. The data also show company financial stability and traffic patterns. Motor carriers of passengers required to comply with the regulations are classified on the basis of their annual gross carrier operating revenues. Under the Financial & Operating Statistics (F&OS) program the FMCSA collects balance sheet and income statement data along with information on tonnage, mileage, employees, transportation equipment, and other related data.

¹ For purposes of the Financial & Operating Statistics (F&OS) program, passenger carriers are classified into the following two groups: (1) Class I carriers are those having average annual gross transportation operating revenues (including interstate and intrastate) of $5 million or more from passenger motor carrier operations after applying the revenue deflator formula in the Note of section 1420.3; (2) Class II passenger carriers are those having average annual gross transportation operating revenues (including interstate and intrastate) of less than $5 million from passenger motor carrier operations after applying the revenue deflator formula as shown in Note A of section 1420.3. Only Class I carriers of passengers are required to file Annual and Quarterly Report Form MP-1, but Class II passenger carriers must notify the agency when there is a change in their classification or their revenues exceed the Class II limit.

The data and information collected is made publicly available as prescribed in 49 CFR part 369. The regulations were formerly administered by the Interstate Commerce Commission (ICC), the Interstate Commerce Act, 49 U.S.C. 11145, 49 U.S.C. 11343(d)(1) and the Bus Regulatory Act of 1982 and later transferred to the U.S. Department of Transportation on January 1, 1996, by the ICC Termination Act of 1995 (ICCTA) (Pub. L. 104-88, 109 Stat. 803 (Dec. 29, 1995)), now codified at 49 U.S.C. 14123. The Secretary of Transportation (Secretary) transferred the authority to administer the F&OS program to the former Bureau of Transportation Statistics on September 30, 1998 (63 FR 52192). Pursuant to this authority, the BTS, now part of the Research and Innovative Technology Administration (RITA), became the responsible DOT modal administration for implementing the F&OS program and requirements at 49 CFR part 1420. On September 29, 2004, the Secretary transferred the responsibility for the F&OS program from BTS, to FMCSA (69 FR 51009). On August 10, 2006 (71 FR 45740), the Secretary published a final rule that transferred and redesignated the motor carrier financial and statistical reporting regulations of BTS that were formerly located at chapter XI of title 49 CFR to FMCSA in 49 chapter III of title 49 CFR part 369.

FMCSA plans to initiate a regulatory proceeding in the near future that will result in the elimination of two quarterly reporting requirements that are currently reported to OMB under the Paperwork Reduction Act (PRA) of 1995 (44 U.S.C. 3501-3520). These forms include: (1) Form QFR Quarterly for property carriers, authorized by OMB under information collection 2126-0033; and (2) the Class I passenger carrier financial quarterly survey (MP-1 Quarterly), authorized by OMB under information collection 2126-0031. The FMCSA does not have the statutory authority to eliminate the annual reporting requirements for property or passengers. FMCSA will be publishing a direct final rule that will include additional information, including the reduced paperwork burden, resulting from this future action.

Title: Annual and Quarterly Report of Class I Motor Carriers of Passengers (OMB 2139-0003).

OMB Control Number: 2126-0031.

Type of Request: Extension of a currently approved information collection request.

Respondents: Class I Motor Carriers of Passengers.

Estimated Number of Respondents: 2.

Estimated Time per Response: 18 minutes per response.

Expiration Date: September 30, 2012.

Frequency of Response: Annually and Quarterly.

Estimated Total Annual Burden: 3 hours [10 responses × 18 minutes per response/60 minutes].

Public Comments Invited: You are asked to comment on any aspect of this information collection, including: (1) Whether the proposed collection is necessary for the agency to perform its mission; (2) the accuracy of the estimated burden; (3) ways for FMCSA to enhance the quality, usefulness, and clarity of the collected information; and (4) ways that the burden could be minimized without reducing the quality of the collected information. The agency will summarize or include your comments in the request for OMB's clearance of this information collection.

Issued on: April 12, 2012.
Kelly Leone,
Associate Administrator for Office of Research and Information Technology.

[FR Doc. 2012-9551 Filed 4-19-12; 8:45 am]

BILLING CODE 4910-EX-P